DEPARTMENT OF HEALTH AND HUMAN SERVICES

Centers for Disease Control and Prevention

[60 Day-16-1061; Docket No. CDC-2016-0008]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the Behavioral Risk Factor Surveillance System (BRFSS), a state-level survey of health risk behaviors and chronic health conditions. Survey questions are updated each year. The information collection is being revised to incorporate an annual field test of proposed changes prior to their implementation on a broad scale.

DATES: Written comments must be received on or before March 21, 2016.

ADDRESSES: You may submit comments, identified by Docket No. CDC-2016-0008 by any of the following methods:

Federal eRulemaking Portal: Regulation.gov. Follow the instructions for submitting comments.

Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Behavioral Risk Factor Surveillance System (BRFSS) (OMB No. 0920-1061, exp. 3/31/2018)—Revision—National Center for Chronic Disease Prevention and Health Promotion (NCCDPHP), Centers for Disease Control and Prevention (CDC).

Background and Brief Description

The Behavioral Risk Factor Surveillance System (BRFSS) is a CDC-sponsored system of cross-sectional telephone health surveys concerning individual health risk behaviors, health conditions, and preventive health practices that are associated with chronic diseases, infectious diseases, and injury. The BRFSS is administered annually by health departments in states, territories, and the District of Columbia (collectively referred to as states). An independent sample of respondents is drawn for each state. The system is designed to produce information that is specific to the public health needs of each participating jurisdiction, and for many is the only source of health risk data amenable to their uses. Although national estimates of some health risk behaviors are available, the methods used to produce national estimates do not typically produce the type of detailed information needed to plan and implement public health programs; moreover, national estimates provide only limited insight into regional or state-specific variability in health status and risk factors. Over time the BRFSS has developed into an important data collection system that federal agencies rely on for state and local health information and to track national health objectives such as Healthy People. Through the BRFSS partnership, CDC has established standard protocols for BRFSS data collection which all states are encouraged to adopt. These standards allow for state-to-state data comparisons as well as comparisons over time.

The BRFSS questionnaire is based on modular design principles to accommodate a variety of state-specific needs within a common framework. All participating states are required to administer a standardized core questionnaire which provides a set of shared health indicators for all BRFSS partners. The BRFSS core questionnaire consists of fixed core, rotating core, and emerging core questions. Fixed core questions are asked every year. Rotating core questions cycle on and off the core questionnaire during even or odd years, depending on the question. Emerging core questions are included in the core questionnaire as needed to collect data on urgent or emerging health topics such as influenza.

In addition, the BRFSS includes a series of optional modules on a variety of topics. In off-years when the rotating questions are not included in the core questionnaire, they are offered to states as an optional module. This framework allows each state to produce a customized BRFSS survey by appending selected optional modules to the core survey. States may select which, if any, optional modules to administer. As needed, CDC provides technical and methodological assistance to state BRFSS coordinators in the construction of their state-specific surveys.

The CDC and BRFSS partners produce a new set of state-specific BRFSS questionnaires each calendar year (i.e., 2016 BRFSS questionnaires, 2017 BRFSS questionnaires, etc.). CDC submits an annual Change Request to OMB outlining updates to the BRFSS core survey and optional modules that have occurred since the previous year. Each state administers its BRFSS questionnaire throughout the calendar year. The BRFSS partnership thus results in a flexible, coordinated information collection system that is adaptive to national and state-specific needs.

The current estimated average burden for the core BRFSS interview is 15 minutes. For the optional modules, the estimated average burden per response varies by state and year, but is currently estimated at an additional 15 minutes. Finally, the BRFSS allows states to customize some portions of the questionnaire through the addition of state-added questions, which are neither reviewed nor approved by the CDC. State-added questions are not included in CDC's burden estimates.

CDC periodically updates the BRFSS core survey and optional modules as new modules or emerging core questions are adopted. The purpose of this Revision request is to incorporate field testing into the approved information collection plan.

Field testing is the final check of changes in the questionnaire which have occurred in the preceding year. Field testing is conducted in a manner that mimics the full-scale project protocol, to the degree that is feasible. Field testing is the final means by which changes are made in data collection methods and data collection software is tested. Field tests are used to identify problems with instrument documentation or instructions, problems with conditional logic (e.g., skip patterns), software errors or other implementation and usability issues. Field testing is conducted with all new modules, emerging core questions, sections which precede and/or follow any new or changed items and extant sections which are topically related. This testing is conducted to ensure that questions are not perceived as redundant or overlapping. Extant sections of the questionnaire unrelated to new items do not require testing. The demographic questions on the core BRFSS survey are included on each field test.

Since the field test instrument changes annually, it will be submitted to OMB for approval as an additional Change Request prior to implementation. Field tests are typically conducted in a single state with appropriate computer-assisted telephone interview (CATI) capability. Individuals who participate in field testing are drawn from a different sample than individuals who participate in the BRFSS surveys.

The BRFSS was initially approved with annualized estimates of 1,643,227 responses and 255,915 burden hours inclusive of the core survey and optional modules. CDC is requesting an additional allocation of 900 responses and 9,210 burden hours to conduct the annual field test. After a brief screening interview, approximately 400 respondents per year will be determined ineligible or will decline to participate. The estimated burden per response for these respondents is one minute. An additional 500 respondents will participate in both the screening interview and the actual field test. The estimated burden for these respondents is 45 minutes. In years when fewer new questions and/or changes are proposed to the BRFSS questionnaire, field testing will impose a lesser burden. The revised total annualized estimates are 1,644,127 responses and 265,125 burden hours.

Information collection is conducted primarily to support state and local health departments, which plan and evaluate public health programs at the state or sub-state level. Information collected through the BRFSS is also used by the federal government and other entities. Participation in the BRFSS and its field test is voluntary and there are no costs to respondents other than their time.

Estimated Annualized Burden Hours
Type of respondents | Form name | Number of respondents | Number of responses per respondent | Average burden per response (in hr) | Total burden (in hr)
U.S. General Population | Landline Screener | 440,486 | 1 | 1/60 | 7,341
| Cell Phone Screener | 223,334 | 1 | 1/60 | 3,722
| Field Test Screener | 400 | 1 | 1/60 | 7
Annual Survey Respondents(Adults >18 Years) | BRFSS Core Survey | 494,650 | 1 | 15/60 | 123,662
| BRFSS Optional Modules | 484,757 | 1 | 15/60 | 121,189
Field Test Respondents(Adults >18 Years) | Field Test Survey | 500 | 1 | 45/60 | 375
Total |  |  |  |  | 256,296

Leroy A. Richardson,
Chief, Information Collection Review Office, Office of Scientific Integrity, Office of the Associate Director for Science, Office of the Director, Centers for Disease Control and Prevention.

[FR Doc. 2016-00938 Filed 1-19-16; 8:45 am]

BILLING CODE 4163-18-P